DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 10, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Institute of Food and Agriculture

Title: Children, Youth, and Families at Risk (CYFAR) Year End Report.

OMB Control Number: 0524-0043.

Summary of Collection: The National Institute of Food and Agriculture (NIFA) administers grants that support the Children, Youth, and Families at Risk (CYFAR) Sustainable Communities Project (SCP). Funding for this program is authorized under section 3(d) of the Smith-Lever Act (7 U.S.C. 341 et seq.), CYFAR funding supports community-based programs (also known as “extension programs”) which serve children, youth, and families in at-risk environments. CYFAR funds are intended to support the development of high quality, effective programs based on research.

The purpose of CYFAR SCP funding is to improve the quality and quantity of comprehensive community-based programs for at-risk children, youth, and families supported by the Cooperative Extension System. Collaboration across disciplines, program areas, and geographic lines, as well as a holistic approach that views the individual in the context of the family and community, are central to Sustainable Community Projects. CYFAR grants are awarded only to 1862, 1890, and 1994 Land Grant institutions through a competitive application process. Awards are made annually, for five year terms. There are up to 50 grantees at any given time.

Need and Use of the Information: The purpose of the CYFAR Year End Report is to collect the demographic and impact data from each community site in order to evaluate the impact of the programs on intended audiences. CYFAR grants represent a Federal financial investment and the data collected allows NIFA to gauge the benefits achieved from these investments. The CYFAR Year End Report tells the story of each of the CYFAR SCP grantees and is part of the information used to determine whether grantees have performed adequately in the past year to receive a continuation of funding. Without the information NIFA would not be able to verify if CYFAR programs are reaching at risk, low-income audiences specified in the authorizing legislation.

Description of Respondents: State, Local or Tribal Government.

Number of Respondents: 50.

Frequency of Responses: Reporting: Annually.

Total Burden Hours: 1,320.

Ruth Brown,
Departmental Information Collection Clearance Officer.

[FR Doc. 2023-27039 Filed 12-8-23; 8:45 am]

BILLING CODE 3410-09-P